ENVIRONMENTAL PROTECTION AGENCY

40 CFR Part 52

[EPA-R06-OAR-2005-NM-0009; FRL-9187-7]

Approval and Promulgation of Air Quality Implementation Plans; New Mexico; Revisions to Emissions Inventory Reporting Requirements, and General Provisions

AGENCY: Environmental Protection Agency (EPA).

ACTION: Proposed rule.

SUMMARY: The EPA is proposing to approve revisions to the New Mexico State Implementation Plan (SIP). These revisions concern two separate actions. First, we are proposing to approve revisions to regulations on Emissions Inventories (EIs) submitted by stationary sources of air pollutants. EIs are critical for the efforts of State, local, and federal agencies to attain and maintain the National Ambient Air Quality Standards that EPA has established for criteria pollutants such as ozone, particulate matter, and carbon monoxide. The revisions add new definitions, modify existing definitions, and require stationary sources of air pollutants located in New Mexico outside of Bernalillo County to report emissions location information, PM2.5 emissions, and ammonia emissions to New Mexico Environment Department (NMED). The revisions also allow NMED to require speciation of hazardous air pollutants for emissions reporting. Second, we are proposing to approve revisions to the General Provisions of the NMAC (20.2.1 NMAC—General Provisions). We are proposing to add a new definition for Significant Figures into the New Mexico SIP. EPA is proposing to approve these two actions pursuant to section 110 of the Federal Clean Air Act.

DATES: Written comments must be received on or before September 13, 2010.

ADDRESSES: Comments may be mailed to Mr. Guy Donaldson, Chief, Air Planning Section (6PD-L), Environmental Protection Agency, 1445 Ross Avenue, Suite 1200, Dallas, Texas 75202-2733. Comments may also be submitted electronically or through hand delivery/courier by following the detailed instructions in the Addresses section of the direct final rule located in the rules section of this Federal Register.

FOR FURTHER INFORMATION CONTACT: Mr. Emad Shahin for Emission Inventory inquiries, Air Planning Section (6PD-L), Environmental Protection Agency, Region 6, 1445 Ross Avenue, Suite 700, Dallas, Texas 75202-2733, telephone 214-665-6717; fax number 214-665-7263; e-mail address shahin.emad@epa.gov, and Mr. Alan Shar for General Provisions inquiries, Air Planning Section (6PD-L), telephone 214-665-6691; fax number 214-665-7263; e-mail address shar.alan@epa.gov.

SUPPLEMENTARY INFORMATION: In the final rules section of this Federal Register, EPA is approving the State's SIP submittal as a direct final rule without prior proposal because the Agency views this as a noncontroversial submittal and anticipates no adverse comments. A detailed rationale for the approval is set forth in the direct final rule. If no relevant adverse comments are received in response to this action, no further activity is contemplated. If EPA receives adverse comments, the direct final rule will be withdrawn and all public comments received will be addressed in a subsequent final rule based on this proposed rule. EPA will not institute a second comment period. Any parties interested in commenting on this action should do so at this time. Please note that if EPA receives adverse comment on an amendment, paragraph, or section of this rule and if that provision may be severed from the remainder of the rule, EPA may adopt as final those provisions of the rule that are not the subject of an adverse comment.

For additional information, see the direct final rule, which is located in the rules section of this Federal Register.

Dated: August 3, 2010.
Al Armendariz,
Regional Administrator, Region 6.

[FR Doc. 2010-19820 Filed 8-11-10; 8:45 am]

BILLING CODE 6560-50-P